DEPARTMENT OF JUSTICE

Antitrust Division

Notice Pursuant to the National Cooperative Research and Production Act of 1993—Medical Technology Enterprise Consortium

Notice is hereby given that, on July 11, 2019, pursuant to Section 6(a) of the National Cooperative Research and Production Act of 1993, 15 U.S.C. 4301 et seq. (“the Act”), Medical Technology Enterprise Consortium (“MTEC”) has filed written notifications simultaneously with the Attorney General and the Federal Trade Commission disclosing changes in its membership. The notifications were filed for the purpose of extending the Act's provisions limiting the recovery of antitrust plaintiffs to actual damages under specified circumstances. Specifically, Haima Therapeutics LLC, Cleveland, OH; Montana State University, Bozeman, MT; Intelligent Automation, Inc., Rockville, MD; Becton Dickinson & Company, Franklin Lakes, NJ; JumpStartCSR, Seattle, WA; 911 Medical Devices, LLC, Houston,TX; Planned Systems International, Inc., Columbia, MD; Temkin Associates, LLC dba Pleiotek, Bethesda, MD; Philips North America, LLC, Cambridge,MA; Caci, Inc.-Federal, Chantilly, VA; Crius Technology Group, Austin, TX; Irving Burton Associates, Inc. (IBA), Falls Church, VA; Dustoff Technologies, LLC, Saint Augustine, FL; FullSekurity Corporation, Irving, TX; Jakris Technologies LLC, dba Digital Enterprise Solutions (DES), Wailuku HI; ISEC7 Inc., Baltimore, MD; IQVIA Government Solutions Inc., Falls Church, VA; Recogniti LLP, Hagerstown, MD; and Regents of the University Michigan, Ann Arbor, MI, have been added as parties to this venture.

Also, Aktivax, Inc., Broomfield, CO; Amethyst Technologies, LLC, Baltimore, MD; Anu Life Sciences, Sunrise, FL; BioTime, Inc., Alameda, CA; Blumio, Inc, San Francisco, CA; Brain Mapping Foundation, West Hollywood, CA; Brown University, Providence, RI; CAE Healthcare, Inc., Sarasota, FL; California Institute of Biomedical Research (Calibr), La Jolla, CA; Cellphire, Inc., Rockville, MD; Change Ventures GP, LLC, Charleston, SC; Chimerix, Inc., Durham, NC; Dignitas Technologies, Orlando, FL; Fibralign Corp., Union City, CA; Integrated MicroSciences, LLC, Frederick, MD; LayerBio, Inc., Arlington, MA; MalarVx, Inc., Seattle, WA; NanoDirect, LLC, Baltimore, MD; OXYVITA Inc., Middletown, NY; Pendar Technologies LLC, Cambridge, MA; Protocentral Inc., Woburn, MA; QBiotics Limited, Taringa, AUSTRALIA; ReNetX Bio, Inc., New Haven, CT; Responde2 Corporation, Mountain View, CA; SAVIR GmbH, Berlin, GERMANY; Selfit Medical Ltd., Ramat Ha'sharon, ISRAEL; Serpin Pharma, Nokesville, VA; Sheltagen Medical Ltd., Atlit, ISRAEL; SmartMD Systems Inc., Manchester Center, VT; SOL-DEL MEDICAL LTD., KFAR SABA, ISRAEL; Solution Guidance Corporation, Chantilly, VA; Sonica LLC Evanston, IL; StemBioSys Inc., San Antonio, TX; SynDaver Labs, Tampa, FL; The Children's Hospital Corporation dba Boston Children's Hospital, Boston, MA; The Trustees of Columbia University in the City of New York, New York, NY; The University of Alabama at Birmingham, Birmingham, AL; Triton Systems Inc, Chelmsford, MA; Tympanogen, Inc., Williamsburg, VA; University of Illinois at Chicago, Chicago, IL; University of Miami, Coral Gables, FL; University of Nebraska Medical Center, Omaha, NE; URO-RESEARCH, LLC, Houston, TX; and West Virginia University Research Corporation, Morgantown, WV, have withdrawn as parties to this venture.

No other changes have been made in either the membership or planned activity of the group research project. Membership in this group research project remains open, and MTEC intends to file additional written notifications disclosing all changes in membership.

On May 9, 2014, MTEC filed its original notification pursuant to Section 6(a) of the Act. The Department of Justice published a notice in the Federal Register pursuant to Section 6(b) of the Act on June 9, 2014 (79 FR 32999).

The last notification was filed with the Department on April 8, 2019. A notice was published in the Federal Register pursuant to Section 6(b) of the Act on May 2, 2019 (84 FR 18864).

Suzanne Morris,
Chief, Premerger and Division Statistics Unit, Antitrust Division.

[FR Doc. 2019-16432 Filed 7-31-19; 8:45 am]

BILLING CODE 4410-11-P